ELECTION ASSISTANCE COMMISSION

Meeting: Technical Guidelines Development Committee; “Voluntary Voting Systems Guidelines and Usability Requirements”

AGENCY: U.S. Election Assistance Commission.

ACTION: Notice of conference call meeting.

DATES: Thursday, September 5, 2019, 11:00 a.m.-1:00 p.m. (EDT).

ADDRESSES: EAC Technical Guidelines Development Committee Conference Call.

To listen and monitor the event as an attendee:

1. Go to: https://eac-meetings.webex.com/webappng/sites/eac-meetings/meeting/info/134066332820856117?MTID=m0b1d44da1a8a5977cd251c6821a3b983.

2. Click “Join Now”. To join the audio conference only: 1. Call the number below and enter the access code. U.S. TOLL FREE: +1-855-892-3345, U.S. TOLL: +1-415-527-5035, Access code: 901 574 364 (See toll-free dialing restrictions at https://www.webex.com/pdf/tollfree_restrictions.pdf).

For assistance, contact the host, Jerome Lovato at https://www.eac.gov/contact/.

FOR FURTHER INFORMATION CONTACT: Jerome Lovato, Telephone: (301) 563-3929.

SUPPLEMENTARY INFORMATION:

Purpose: In accordance with the Federal Advisory Committee Act (FACA), Public Law 92-463, as amended (5 U.S.C. Appendix 2), the U.S. Election Assistance Commission (EAC) Technical Guidelines Development Committee will conduct a conference call to discuss Voluntary Voting System Guidelines and Usability Requirements.

Agenda: The Technical Guidelines Development Committee (TGDC) will discuss the Voluntary Voting System Guidelines 2.0 (VVSG 2.0) Cybersecurity Requirements. TGDC will discuss the next TGDC meeting dates and the continuing steps to develop the Requirements. There may be votes conducted on this call.

The TGDC will discuss the Usability and Accessibility Requirements of the VVSG 2.0. Draft VVSG Requirements can be found at the TWiki page link: https://collaborate.nist.gov/voting/bin/view/Voting/VVSG20DraftRequirements. The most current version of the draft VVSG 2.0 Requirements is clearly marked at the top of the page to ensure the latest version is the topic of discussion at the time of the meetings. As stated in the disclaimer (and in each document), the Requirements are in a draft state and are not yet ready for final posting in their current form. These are provided “as is” for facilitating our on-going discussions, but do not yet represent an official or final version. Members of the public may submit relevant written statements about the meeting's content to the TGDC no later than 3:00 p.m. EDT on Wednesday, September 4, 2019.

Statements may be sent electronically via https://www.eac.gov/contact/, via standard mail addressed to the U.S. Election Assistance Commission, TGDC, 1335 East West Highway, Suite 4300, Silver Spring, MD 20910, or by fax at 301-734-3108. Notice of this meeting is being published less than 15 days prior to the meeting date and time because the TGDC was unable to establish a quorum prior to the 15 day publication requirement.

This conference call will be open to the public.

Dated: August 16, 2019.
Clifford D. Tatum,
General Counsel, U.S. Election Assistance Commission.

[FR Doc. 2019-18053 Filed 8-21-19; 8:45 am]

BILLING CODE 6820-KF-P